DEPARTMENT OF TRANSPORTATION

Federal Motor Carrier Safety Administration

[Docket No. FMCSA-2021-0183]

Agency Information Collection Activities; New Information Collection Request: Non-Insulin-Treated Diabetes Mellitus Assessment Form, MCSA-5872

AGENCY: Federal Motor Carrier Safety Administration (FMCSA), Department of Transportation (DOT).

ACTION: Notice and request for comments.

SUMMARY: In accordance with the Paperwork Reduction Act of 1995, FMCSA announces its plan to submit the information collection request (ICR) described below to the Office of Management and Budget (OMB) for review and approval. This information collection (IC) is voluntary and may be utilized by medical examiners (ME) responsible for issuing Medical Examiner's Certificates, Form MCSA-5876, to individuals diagnosed with non-insulin-treated diabetes mellitus who operate commercial motor vehicles (CMV) in interstate commerce. MEs choosing to use this IC will do so in an effort to communicate with treating healthcare providers who manage the diabetes care of individuals diagnosed with non-insulin-treated diabetes mellitus who operate CMVs. The information obtained by MEs will assist them in determining whether an individual diagnosed with non-insulin-treated diabetes mellitus meets FMCSA's physical qualification standards. One comment from the public was received in response to the 60-day Federal Register notice.

DATES: Comments must be received on or before September 25, 2023.

ADDRESSES: Written comments and recommendations for the proposed information collection should be sent within 30 days of publication of this notice to www.reginfo.gov/public/do/PRAMain. Find this information collection by selecting “Currently under 30-day Review—Open for Public Comments” or by using the search function.

FOR FURTHER INFORMATION CONTACT: Ms. Christine A. Hydock, Chief, Medical Programs Division, FMCSA, DOT, 6th Floor, West Building, 1200 New Jersey Avenue SE, Washington, DC 20590-0001, (202) 366-4001, fmcsamedical@dot.gov.

SUPPLEMENTARY INFORMATION:

Title: Non-Insulin-Treated Diabetes Mellitus Assessment Form, MCSA-5872.

OMB Control Number: 2126-00XX.

Type of Request: New collection.

Respondents: Treating healthcare providers of individuals who are diagnosed with non-insulin treated diabetes mellitus who operate CMVs.

Estimated Number of Respondents: 242,057 respondents.

Estimated Time per Response: 8 minutes.

Expiration Date: N/A. This is a new ICR.

Frequency of Response: Other (Voluntary use at the medical discretion of the ME).

Estimated Total Annual Burden: 32,274 hours.

Background

The primary mission of FMCSA is to reduce crashes, injuries, and fatalities involving CMVs (large trucks and buses). CMVs are longer, heavier, and more difficult to maneuver than automobiles. Not only does it take a skilled driver to operate them safely, it takes a physically and mentally fit driver to do so as well. Information used to determine and certify driver medical fitness helps to promote and maintain safety on our nation's highways.

FMCSA is required by statute to establish minimum standards for the physical qualifications of drivers who operate CMVs in interstate commerce for non-excepted industries (49 U.S.C. 31136(a)(3) and 31502(b)). The regulations applicable to this collection are outlined in the Federal Motor Carrier Safety Regulations (FMCSRs) at 49 CFR part 391, subpart E. The FMCSRs in § 391.41(b) ¹ set forth the physical qualification standards that individuals operating CMVs in interstate commerce who are subject to part 391 must meet. The FMCSRs covering the performance of the CMV physical qualification examination of individuals who operate in interstate commerce by an ME and the related recordkeeping requirements are found at § 391.43. The results of the examination must be recorded in accordance with the requirements set forth in that section; they include preparing and maintaining a Medical Examination Report Form, MCSA-5875, and, if the individual is physically qualified, issuing a Medical Examiner's Certificate, Form MCSA-5876.

¹ 49 CFR 391.41; Physical qualifications for drivers. Available at https://www.ecfr.gov/current/title-49/subtitle-B/chapter-III/subchapter-B/part-391/subpart-E.

The FMCSRs in § 391.41(b)(1) through (13) generally include the physical qualification standards required for the medical certification of individuals who operate a CMV in interstate commerce. The physical qualification standards in § 391.46 address the physical qualification requirements for medical certification of individuals who are diagnosed with diabetes mellitus and are treated with insulin. However, the FMCSRs do not specifically address individuals who are diagnosed with diabetes mellitus and are treated with non-insulin therapy. The type of diabetes mellitus that is not treated with insulin (commonly known as Type 2 diabetes) is recognized as a health concern for the general public.

Non-insulin-treated diabetes mellitus that is not properly managed and controlled may lead to diabetes complications and/or target organ damage, and may result in the individual's physical condition being inadequate to enable the driver to operate a CMV safely. The physical qualification standards in the FMCSRs broadly address some of the conditions and symptoms that may be attributable to complications from non-insulin-treated diabetes mellitus. Examples include the loss of limb and limb impairment standards (§ 391.41(b)(1) and (2)); the cardiovascular standard (§ 391.41(b)(4)); the rheumatic, arthritic, orthopedic, muscular, neuromuscular, or vascular standard (§ 391.41(b)(7)); and the loss of consciousness standard (§ 391.41(b)(8)).

In performing a thorough assessment and evaluation of an individual diagnosed with non-insulin-treated diabetes mellitus, the ME may need to consult with the individual's treating healthcare provider who manages the individual's diabetes. The ME may find this helpful in determining whether the individual has any medical conditions or symptoms, such as frequent episodes of severe hypoglycemia, that may prevent the individual from meeting the physical qualification standards and receiving a Medical Examiner's Certificate, Form MCSA-5876. This voluntary collection would ensure that the treating healthcare provider includes the appropriate information, via the Non-Insulin-Treated Diabetes Mellitus Assessment Form, MCSA-5872, in a standardized manner, which would assist the ME in making an informed and sound physical qualification determination.

In May 2021, FMCSA's Medical Review Board (MRB) deliberated on the topic and contents of a draft Non-Insulin-Treated Diabetes Mellitus Assessment Form, MCSA-5872 (Task 21-2). FMCSA directed the MRB to review and comment on whether the information on the proposed form provided sufficient information concerning the treatment, management, and control of an individual's non-insulin-treated diabetes mellitus condition to assist an ME in making an appropriate physical qualification determination. The Agency also requested that the MRB identify any areas of ambiguity as well as additional information that FMCSA should include on the form. Based on its review, the MRB made some recommendations to improve the clarity and quality of information on the Non-Insulin-Treated Diabetes Mellitus Assessment Form, MCSA-5872, which is provided from the individual's treating healthcare provider to the ME.

There is no required collection frequency for the Non-Insulin-Treated Diabetes Mellitus Assessment Form, MCSA-5872, because the use of this IC is voluntary and at the discretion of the ME.

The Non-Insulin-Treated Diabetes Mellitus Assessment Form, MCSA-5872, will be available as a fillable pdf and may be downloaded from the FMCSA website. Treating healthcare providers may provide the form to the individual, or fax or scan and email the form directly to the ME. Consistent with OMB's commitment to minimizing respondents' recordkeeping and paperwork burdens and the increased use of secure electronic modes of communication, the Agency anticipates that approximately 50 percent of the Non-Insulin-Treated Diabetes Mellitus Assessment Forms, MCSA-5872, will be transmitted electronically.

The information collected on the Non-Insulin-Treated Diabetes Mellitus Assessment Form, MCSA-5872, will be used by the ME who requests completion of the form and will not be available to the public. The Non-Insulin-Treated Diabetes Mellitus Assessment Form, MCSA-5872, will become a part of the individual's physical qualification examination records that are maintained and retained by the ME for a period of at least 3 years from the date of the examination.²

² The burden for the ME to file and retain the driver examination forms is covered in the Medical Qualification Requirements ICR, OMB Control Number 2126-0006, which is currently due to expire on March 31, 2025.

One comment was received from the American College of Occupational and Environmental Medicine (ACOEM) in strong support of the IC. ACOEM stated there is no standardized resource currently available that provides MEs with a reasonable example of appropriate information to consider when evaluating the medical qualification of a driver with non-insulin-treated diabetes mellitus. The ME would be able to use the information provided to evaluate whether the individual's diabetes mellitus is stable and controlled and to make an informed and sound physical qualification determination for the driver. ACOEM also stated that the burden associated with the form would be reduced if a fillable form is available. FMCSA notes that a fillable form that can be downloaded will be available on FMCSA's website.

Public Comments Invited: You are asked to comment on any aspect of this IC, including: (1) whether the proposed collection is necessary for FMCSA to perform its functions; (2) the accuracy of the estimated burden; (3) ways for FMCSA to enhance the quality, usefulness, and clarity of the collected information; and (4) ways that the burden could be minimized without reducing the quality of the collected information.

Issued under the authority of 49 CFR 1.87.

Thomas P. Keane,
Associate Administrator, Office of Research and Registration.

[FR Doc. 2023-18238 Filed 8-23-23; 8:45 am]

BILLING CODE 4910-EX-P